DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed revised information collection. In accordance with the Paperwork Reduction Act of 1995 (44 U.S.C. 3506(c)(2)(A)), this notice seeks comments concerning the Public Assistance Progress Report and related forms used to administer the Public Assistance Program.

SUPPLEMENTARY INFORMATION: The Robert T. Stafford Disaster Relief and Emergency Assistance Act, Public Law 93-288, as amended, authorizes the President to provide assistance to State and local governments to help them to respond to and recover from a disaster. In order to receive Federal assistance (i.e., Federal grants) State and local officials and officials of eligible private nonprofit organizations, who have responsibility for response to a major disaster and for the restoration of facilities in the aftermath of such events, must provide information to FEMA. The information is required in accordance with FEMA regulations 44 CFR, Section 206.204(f), Section 206.203(c), Section 206.203(d)(i) and guidance published in FEMA 322, Public Assistance Guide, and FEMA 323, Public Assistance Applicant Handbook. Summary of the Application Process/Forms: (1) The Request for Public Assistance is FEMA's official application form. The Grantee has 30 days from the date of the designation of the area where the damage occurred to submit a completed Request to the Regional Director for each applicant who requests public assistance. (2) Project Worksheet (PW)—The PW identifies the eligible scope of work and includes a quantitative estimate for the eligible work. FEMA or the applicant (sub-grantee), assisted by the State, will prepare a PW for each project. The applicant will have 60 days to identify and report damages to FEMA. (3) Federal funds are obligated to the State based on the approved PW. (4) The State will then approve sub-grantees based on the PW approved for each applicant. (5) PW Damage Description and Scope of Work Continuation Sheet—The Damage Description and Dimensions and Scope of Work should be listed in the areas provided on the PW. The optional PW—Damage Description and Scope of Work Continuation Sheet provides additional space, if needed, to describe the work necessary to restore the facility to its pre-disaster design. (6) PW Cost Estimate Continuation Sheet—The cost estimate is the estimated cost of repair for the damages described in the Project Description of the PW. The optional PW Cost Estimate Continuation Sheet provides additional space, if needed, to estimate the cost to restore the facility to its pre-disaster condition. (7) PW Maps and Sketches Sheet—The optional PW Maps and Sketches Sheet assist applicants in organizing project documentation. The exact location of the facility is described and a sketch of the facility will assist the applicant in describing the damage in terms of facility features or items requiring repair. (8) PW Photo Sheet—The optional PW Photo Sheet assist applicants in organizing project documentation. The Photo Sheet provides field personnel with specific information that enables facility damages to be documented before work is accomplished. (9) Force Account Labor Summary Record—The optional Force Account Labor Summary Record, is used to record applicant personnel cost. (10) Force Account Equipment Summary Record—The optional Force Account Equipment Summary Record, is used to record applicant equipment costs. (11) Materials Summary Record—The optional Materials Summary Record, is used to record the supplies and materials an applicant may take out of stock or purchase. (12) Contract Work Summary Record—The optional Contract Work Summary Record, is used to record the costs of work that an applicant has done by contract. (13) Rented Equipment Summary Record—The optional Rented Equipment Summary Record, is used to record the cost of rented or leased equipment. (14) Special Considerations Questions—The key to expedited review and approval of emergency-or permanent-work projects is early identification of factors that affect compliance with environmental resources, disaster assistance, and historic preservation legislation and Executive Orders on floodplain, wetlands, and environmental justice. The optional Special Considerations Questions, assists applicants in organizing project documentation. It is more important that any considerations simply be noted on the PW thus alerting FEMA early on in the process to any problems or circumstances expected to result in noncompliance with the approved grant. A condition of all FEMA funded projects is that they conform to State and local laws and ordinances. (15) Applicant's Benefits Calculation Worksheet—The optional Applicant's Benefits Calculation Worksheet is used to record the costs of fringe benefits for force account labor. (16) PNP Facility Questionnaire—The optional PNP Facility Questionnaire is used to help determine the eligibility of specific Private Non-Profit facilities.

Collection of Information

Title: Public Assistance Progress Report and Program Forms.

Type of Information Collection: Revision of a currently approved collection.

OMB Number: 1660-0017.

Form Numbers: FEMA Form 90-49, Request for Public Assistance; FEMA Form 90-91, Project Worksheet (PW); FEMA Form 90-91A, Damage Description and Scope of Work Continuation Sheet; FEMA Form 90-91B, Cost Estimate Continuation Sheet; FEMA Form 90-91C, Maps and Sketches Sheet; FEMA Form 90-91D, Photo Sheet; FEMA Form 90-120, Special Considerations Questions; FEMA Form 90-121, PNP Facility Questionnaire; FEMA Form 90-123, Force Account Labor Summary Record; FEMA Form 90-124, Materials Summary Record; FEMA Form 90-125, Rented Equipment Summary Record; FEMA Form 90-126, Contract Work Summary Record; FEMA Form 90-127, Force Account Equipment Summary Record; and FEMA Form 90-128, Applicant's Benefits Calculation Worksheet.

Abstract: This collection serves as the mechanism to administer the Public Assistance (PA) Program. The application process contains recordkeeping and reporting requirements via mandatory and optional completion of several forms and timeframes. The Progress Report and related forms ensure that FEMA and the State have up-to-date information on PA program grants. The report describes the status of project completion dates, and circumstances that could delay a project. States are responsible for determining reporting requirements for applicants and must submit reports quarterly to FEMA Regional Directors. The date of the report is determined jointly by the State and the Disaster Recovery Manager.

Affected Public: State, Local or Tribal government, and Not-For-Profit Organizations.

Estimated Total Annual Burden Hours: 132,882 hours.

Annual Burden Hours
Forms | No. of respondents | Frequency of responses | Burden hours per respondent | Annual responses | Total annual burden hours
| (A) | (B) | (C) | (AxB) | (AxBxC)
Mandatory Forms:
FF 90-49 | 148 | 53 | 10 min | 7,844 | 1,333
FF 90-91, FF 90-91A, FF 90-91B, FF 90-91C, FF 90-91D | 694 | 53 | 90 min | 36,782 | 55,173
FF 90-120 | 658 | 53 | 10 min | 34,874 | 5,929
FF 90-128 | 148 | 53 | 30 min | 7,844 | 3,922
FF 91-121 | 20 | 53 | 30 min | 1,060 | 530
Progress Report | 56 | 4 | 100 hrs | 224 | 22,400
Total—Mandatory | 1724 | 269 | 103 hrs | 88,628 | 89,287
Optional Forms:
FF 90-123 | 658 | 53 | 15 min | 34,874 | 8,719
FF 90-124 | 658 | 53 | 15 min | 34,874 | 8,719
FF 90-125 | 658 | 53 | 15 min | 34,874 | 8,719
FF 90-126 | 658 | 53 | 15 min | 34,874 | 8,719
FF 90-127 | 658 | 53 | 15 min | 34,874 | 8,719
Total Annual Burden | 5,014 | 534 | 104 hrs | 262,998 | 132,882

Estimated Cost: Annualized cost to all respondents combined is estimated at $3,800,000.00 with an average cost per respondent estimated at $2,906.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to the Section Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Clifford Brown, Program Specialist, Public Assistance Grant Program at 202-646-4136 for additional information. You may contact the Records Management Section for copies of the proposed collection of information at facsimile number (202) 646-3347 or E-mail address: FEMA-Information-Collections@dhs.gov.

Dated: June 29, 2005.
Deborah Moradi,
Acting Branch Chief, Information Resources Management Branch, Information Technology Services Division.

[FR Doc. 05-13610 Filed 7-11-05; 8:45 am]

BILLING CODE 9110-10-P